DEPARTMENT OF TRANSPORTATION

Surface Transportation Board

49 CFR Chapter X

[Docket No. EP 711]

Petition for Rulemaking to Adopt Revised Competitive Switching Rules

AGENCY: Surface Transportation Board, DOT.

ACTION: Notice of rescheduled public hearing.

SUMMARY: The Surface Transportation Board (the Board) will hold a public hearing to explore further the issues surrounding the petition by The National Industrial Transportation League (NITL) and the related comments filed in this proceeding.

DATES: The hearing will be held on March 25 and 26, 2014, beginning at 9:30 a.m., in the Hearing Room at the Board's headquarters located at 395 E Street SW., Washington, DC. The hearing will be open for public observation.

FOR FURTHER INFORMATION CONTACT: Valerie Quinn at (202) 245-0382. Assistance for the hearing impaired is available through the Federal Information Relay Service (FIRS) at (800) 877-8339.

SUPPLEMENTARY INFORMATION: By decision served on July 25, 2012, the Board began a proceeding to consider a proposal submitted by NITL to modify the Board's standards for mandatory competitive switching. Under the proposal, certain captive shippers located in terminal areas would be granted access to a competing railroad if there is a working interchange within a reasonable distance (30 miles under NITL's proposal). In its decision, the Board sought empirical information about the impact of the proposal if it were to be adopted. The Board received numerous comments in response to its decision. In order to explore further NITL's proposal and the issues raised in the submitted comments, the Board scheduled a public hearing for October 22, 2013. The Board received numerous notices of intent to participate in that hearing. By decision served on October 16, 2013, the Board postponed the hearing due to the Government shutdown. The Board is now rescheduling the hearing for March 25 and 26, 2014.

Additional information—including the schedule of appearances and time allotments—is contained in the Board's decision, which is available on our Web site, http://www.stb.dot.gov. Copies of the decision may be purchased by contacting the Office of Public Assistance, Governmental Affairs, and Compliance at (202) 245-0238. Assistance for the hearing impaired is available through FIRS at (800) 877-8339.

This action will not significantly affect either the quality of the human environment or the conservation of energy resources.

It is ordered:

A public hearing in this proceeding will be held on March 25 and 26, 2014, at 9:30 a.m., in the Board's Hearing Room, at 395 E Street SW., Washington, DC, as described above.

Decided: February 3, 2014.
By the Board, Joseph H. Dettmar, Acting Director, Office of Proceedings.
Jeffrey Herzig,
Clearance Clerk.

[FR Doc. 2014-02941 Filed 2-7-14; 8:45 am]

BILLING CODE 4915-01-P